DEPARTMENT OF DEFENSE

Department of the Army, U.S. Army Corps of Engineers

Notice To Conduct a Public Meeting for Preparation of a Preliminary Assessment and Dredged Material Management Plan for Petaluma River, City of Petaluma, Sonoma County, CA

AGENCY: Department of the Army, U.S. Army Corps of Engineers, DOD.

ACTION: Public Notice.

SUMMARY: The purpose of this notice is to initiate the scoping process for an evaluation of whether there is adequate capacity at existing placement sites for placement/disposal of projected maintenance dredged material from Petaluma River. This evaluation will be conducted in a two-step process: First a preliminary assessment (PA) will make projections of the volume of dredged material, estimate the existing capacity for placement/disposal of the material, and verify that continued maintenance dredging is economically justified. If the PA concludes that continued maintenance dredging is justified and that the existing placement/disposal capacity is not adequate, then a Dredged Material Management Plan (DMMP) will be prepared to identify additional placement/disposal sites with adequate capacity for the next 20 years of federal and non-federal maintenance dredging.

DATES: A public meeting will be held on April 30, 2015, at 7:00 p.m. (PDT). Submit comments concerning this project on or before May 18, 2015.

ADDRESSES: The public meeting will be held at the Petaluma Community Center, 320 North McDowell Boulevard, Petaluma, CA 94954. Mail written comments concerning this notice to: U.S. Army Corps of Engineers, San Francisco District, Engineering and Technical Services Division, ATTN: Roxanne Grillo, 1455 Market Street, 17th Floor, San Francisco, CA 94103-1398. Comment letters should include the commenter's physical mailing address and the project title, Petaluma River federal navigation project, in the subject line.

FOR FURTHER INFORMATION CONTACT: Roxanne Grillo, U.S. Army Corps of Engineers, San Francisco District, Environmental Section A, 1455 Market Street, 17th Floor, San Francisco, CA 94103-1398, (415) 503-6859, Roxanne.Grillo@usace.army.mil.

SUPPLEMENTARY INFORMATION: If the Corps determines that preparation of a DMMP is necessary, an accompanying Environmental Assessment in accordance will be prepared in accordance with the National Environmental Policy Act (NEPA). The primary federal actions under consideration are dredging, dredged material placement/disposal, and transport of dredged material for the purpose of aquatic disposal and/or upland beneficial reuse. The City of Petaluma is the non-federal sponsor (NFS). An Environmental Assessment is intended to be sufficient in scope to address the federal, state and local requirements and environmental issues concerning the proposed activities and permit approvals.

Project Site and Background Information: The Petaluma River federal navigation project is located on the Northern California coast about 35 miles to the north of San Francisco. It consists of two portions: The Upper Channel that begins in Petaluma City and extends 14 miles to the mouth of Petaluma River at San Pablo Bay (near the Highway 37 Bridge); and the Across the Flats (ATF) portion that continues southeast of the Highway 37 Bridge and extends 5 miles into the deeper water of San Pablo Bay. It is a shallow draft navigation project that supports light commercial and sport fishing, and recreational boating.

Both the channel width and depth vary throughout the entire length of the federal project. An 8 foot depth is authorized for the five miles of the ATF portion extending into San Pablo Bay (200 foot wide channel) and as far upstream as Western Avenue in the City of Petaluma (100 foot wide channel). This includes a 300 foot by 400 foot turning basin. The channel then reduces to 50 feet wide with a 4 foot depth until the Washington Street Bridge and from there it reduces to a 40 foot width and a 4 foot depth for an additional 935 linear feet.

Historically, dredged sediment from the Upper Channel was placed at an upland disposal site located downstream of the turning basin. The dredged sediment from the ATF portion has historically been placed at the San Pablo in-bay disposal site SF-10.

Proposed Action(s): The San Francisco District, US Army Corps of Engineers, is evaluating whether there is sufficient placement/disposal capacity and verifying economic justification to support continued federal and non-federal maintenance dredging over the next 20 years.

Issues: Potentially significant issues associated with the project may include: air quality emissions, biological resource impacts, hazards and hazardous materials, hydrology and water quality, noise, traffic and transportation, and cumulative impacts from past, present and reasonably foreseeable future projects.

Scoping Process: The U.S. Army Corps of Engineers is seeking participation and input of all interested federal, state, and local agencies, Native American groups, and other concerned private organizations or individuals through this public notice. The purpose of the public meeting is to solicit comments regarding the potential impacts and environmental issues associated with the proposed action to be considered. A meeting will be held on April 30, 2015, at 7:00 p.m. (PDT). The draft PA is expected to be available for public review and comment in late summer of 2015.

John C. Morrow,
Lieutenant Colonel, U.S. Army, District Engineer.

[FR Doc. 2015-08723 Filed 4-14-15; 8:45 am]

BILLING CODE 3720-58-P